DEPARTMENT OF TRANSPORTATION

Office of the Secretary

[Docket Number: DOT-OST-2009-0185]

Request for OMB Clearance of a New Emergency Information Collection; New Information Collection: ARRA Bonding Assistance Program Reimbursable Fee Program

AGENCY: Office of the Secretary (OST), Department of Transportation (DOT).

ACTION: Notice; Letter of public notification of the American Recovery and Reinvestment Act (ARRA) of 2009, (Pub. L. 111-5) DBE Bonding Assistance Program. This request is being submitted to OMB via an Emergency Information Collection Request.

SUMMARY: In compliance with the Paperwork Reduction Act of 1995, Public Law 104-13 (44 U.S.C. 3501 et seq.) this notice announces the Information Collection Request on DOT Form F4504—Application for Reimbursement of Bond Fees for this new ARRA DOT program. The notice is being forwarded to the Office of Management and Budget for Emergency Action and approval.

In an effort to assist the Disadvantaged Business Enterprises (DBEs) obtain transportation and infrastructure contracts at the local, state and federal levels, the Department of Transportation's (DOT) Office of the Secretary, Office of Small and Disadvantaged Business Utilization (OSDBU) has established under the American Recovery and Reinvestment Act (ARRA) of 2009, the DBE ARRA Bonding Assistance Program (BAP) Reimbursement Fee Program This program will assist DBEs become more competitive and perform on more transportation infrastructure projects receiving ARRA funding assistance from any DOT mode of transportation, such as Federal Highway Administration, (FHWA), Federal Transit Administration (FTA), Federal Aviation Administration (FAA), Federal Railroad Administration (FRA), and the Maritime Administration (MARAD). The DBE ARRA BAP is financial assistance in the form of a bonding fee cost reimbursement. DOT will directly reimburse DBEs the premiums paid to the surety company, usually between 2-3% of the total bond amount, for performance, payment or bid/proposal bonds. In the event the DBE also obtains a bond guarantee from Small Business Administration's (SBA) Surety Bond Guarantee Program (SBGP), the DOT will also reimburse the DBE for the small business concern (principal) fee of .729% of the contract price.

FOR FURTHER INFORMATION CONTACT: Nancy Strine, Manager, 202-366-1930, Financial Assistance Division, Office of Small and Disadvantaged Business Utilization, Office of the Secretary, U.S. Department of Transportation, 1200 New Jersey Avenue, SE., Room W56-493, Washington, DC 20590. Office hours are from 9 a.m. to 5 p.m., Monday through Friday, except holidays.

SUPPLEMENTARY INFORMATION: OMB Control Number: OMB Control Number 2105-XXXX.

Title: ARRA Bonding Assistance Program Reimbursement Fee Program.

Form Number: DOT F 4504.

Affected Public: Disadvantaged Business Enterprises—certified by Title 49 CFR, Part 26.

Frequency: One-time.

Estimated Average Burden per Response: 2 hours.

Estimated Annual Burden Hours: 3,540 hours.

Abstract: ARRA Bonding Assistance Program Reimbursable Fee Program.

The information collected will be from the DBE working on transportation or infrastructure ARRA funded project. The information collected will be used by DOT OSDBU to verify eligibility, process the application, and disburse the reimbursement. The information being collected relates the name of the company; full street address; the Dun and Bradstreet Number (DUNS); Central Contractor Registration along with Bank information to process their payment; DOT transportation related contract information; supporting documentation that shows the federal project number, bond information along with a copy of their bond; and proof of payment of the fee. The applicant's eligibility is determined by submitting a copy of a DBE certification and/or annual affidavit, if applicable, for bonding fee reimbursement for specific bonds. This will be verified by OSDBU staff as part of the application process. Instructions are attached along with a copy of sample letter to show how to obtain the federal project number. This information is necessary to be able to reimburse the DBE the financial assistance for the bond fees.

Issued in Washington, DC, on August 10, 2009.
Tracey M. Jackson,
Office of the Chief Information Officer.

[FR Doc. E9-19917 Filed 8-18-09; 8:45 am]

BILLING CODE 4910-9X-P